LIBRARY OF CONGRESS

Copyright Office

[Docket No. 2005-1 CARP]

Notice of Intent To Audit

AGENCY: Copyright Office, Library of Congress.

ACTION: Public notice.

SUMMARY: The Copyright Office of the Library of Congress is announcing receipt of three notices of intent to audit preexisting subscription services that transmit sound recordings under statutory licenses. The audits intend to verify statements of account for the years 2001, 2002, and 2003.

FOR FURTHER INFORMATION CONTACT: Tanya M. Sandros, Associate General Counsel, or Abioye E. Oyewole, CARP Specialist, Copyright Arbitration Royalty Panel (CARP), P.O. Box 70977, Southwest Station, Washington, DC 20024-0977. Telephone: (202) 707-8380. Telefax: (202) 707-3423.

SUPPLEMENTARY INFORMATION: Section 114(d)(2) of title 17 of the United States Code provides statutory licensing requirements for subscription services that perform sound recordings by means of digital audio transmissions. Those that were in existence and were performing sound recordings by means of interactive audio-only subscription digital audio transmissions to the public for a fee on or before July 31, 1998, are known as “preexisting subscription services.” Three services fall within this category: DMX Music, Inc., Muzak LLC, and Music Choice (“the Services”). These services make payments of royalty fees to and file reports of sound recording performances with SoundExchange. SoundExchange is a collecting rights entity that was designated by the Librarian of Congress to collect and distribute royalty fee payments made under section 114(d)(2) by the three preexisting subscription services. See 68 FR 39837 (July 3, 2003).

Pursuant to section 260.5 of title 37 of the Code of Federal Regulations, an interested party may initiate an audit of any one of the three preexisting services. SoundExchange, as the designated collector and distributor of royalties paid by preexisting subscription services to interested copyright parties, is an interested party and may conduct one audit per calendar year of one or all of the Services for the purpose of verifying their statements of account. As a preliminary matter, the interested party is required to submit a notice of its intent to audit a preexisting subscription service with the Copyright Office and to serve this notice on the service to be audited. 37 CFR 260.5(c).

On December 21, 2004, SoundExchange filed with the Copyright Office three notices of intent to audit the preexisting subscription services ¹,²,³ for the years 2001, 2002, and 2003. As stated in section 260.5(c), the Copyright Office then is required to publish a notice in the Federal Register within thirty days of receipt of the filing announcing an interested party's intent to conduct an audit.

¹ A copy of the Notice of Intent to Audit DMX Music, Inc. will be posted on the Office website at http://www.copyright.gov/carp/dmx_notice.pdf.

² A copy of the Notice of Intent to Audit Muzak LLC will be posted on the Office website at http://www.copyright.gov/carp/muzak_notice.pdf.

³ A copy of the Notice of Intent to Audit Music Choice will be posted on the Office website at http://www.copyright.gov/carp/musicchoice_notice.pdf.

In accordance with this regulation the Office is publishing today's notice to fulfill this requirement with respect to SoundExchange's notices of intent to audit.

Dated: January 13, 2005
Tanya M. Sandros,
Associate General Counsel.

[FR Doc. 05-1037 Filed 1-18-05; 8:45 am]

BILLING CODE 1410-33-S